DEPARTMENT OF THE TREASURY

Financial Research Advisory Committee

AGENCY: Office of Financial Research, Treasury.

ACTION: Financial Research Advisory Committee-Notice of Charter Renewal and Solicitation of Applications for Committee Membership.

SUMMARY: The charter for the Financial Research Advisory Committee has been renewed for a two-year period beginning April 4, 2014. The Office of Financial Research seeks applications from individuals who wish to serve on the Committee.

FOR FURTHER INFORMATION CONTACT: Andrea B. Ianniello, Designated Federal Officer, Office of Financial Research, Department of the Treasury, (202) 622-3002.

SUPPLEMENTARY INFORMATION: Pursuant to the Federal Advisory Committee Act, (Pub. L. 92-463, 5 U.S.C. App. 2 § 1-16, as amended), the Treasury Department established a Financial Research Advisory Committee (Committee) to provide advice and recommendations to the Office of Financial Research (OFR) and to assist the OFR in carrying out its duties and authorities.

(I) Authorities of the OFR

The OFR was established under Title I of the Dodd-Frank Wall Street Reform and Consumer Protection Act (Pub.L. 111-203, July 21, 2010). The purpose of the OFR is to support the Financial Stability Oversight Council (Council) in fulfilling the purposes and duties of the Council and to support the Council's member agencies by:

—Collecting data on behalf of the Council, and providing such data to the Council and member agencies;

—Standardizing the types and formats of data reported and collected;

—Performing applied research and essential long-term research;

—Developing tools for risk measurement and monitoring;

—Performing other related services;

—Making the results of the activities of the OFR available to financial regulatory agencies; and

—Assisting such member agencies in determining the types and formats of data authorized by the Dodd-Frank Act to be collected by such member agencies.

(II) Scope and Membership of the Committee

The Committee was established to advise the OFR on issues related to the responsibilities of the office. It may provide its advice, recommendations, analysis, and information directly to the OFR and the OFR may share the Committee's advice and recommendations with the Secretary of the Treasury or other Treasury officials. The OFR will share information with the Committee as the Director determines will be helpful in allowing the Committee to carry out its role.

The Committee charter was renewed for a two-year term on April 4, 2014. The OFR is soliciting applications for membership on the Committee in order to provide for rotation of membership, as provided in its original and proposed renewed charter, as well as to provide for a diverse and balanced body with a variety of interests, backgrounds, and viewpoints represented. Providing for such diversity enhances the views and advice offered by the Committee.

(II) Application for Advisory Committee Appointment

Treasury seeks applications from individuals representative of a constituency within the fields of economics, financial institutions and markets, statistical analysis, financial markets analysis, econometrics, applied sciences, risk management, data management, information standards, technology, or other areas related to OFR's duties and authorities. The terms of members chosen to serve may vary from one to three years. No person who is a Federally-registered lobbyist may serve on the Committee. Membership on the Committee is limited to the individuals appointed and is non-transferrable. Regular attendance is essential to the effective operation of the Committee. Some members of the Committee may be required to adhere to the conflict of interest rules applicable to Special Government Employees, as such employees are defined in 18 U.S.C. section 202(a). These rules include relevant provisions in 18 U.S.C. related to criminal activity, Standards of Ethical Conduct for Employees of the Executive Branch (5 CFR part 2635), and Executive Order 12674 (as modified by Executive Order 12731).

To apply, an applicant must submit an appropriately-detailed resume and a cover letter describing their interest, reasons for application, and qualifications. In accordance with Department of Treasury Directive 21-03, a clearance process includes fingerprints, tax checks, and a Federal Bureau of Investigation criminal check. Applicants must state in their application that they agree to submit to these pre-appointment checks.

The application period for interested candidates will close on April 25, 2014. Applications should be submitted in sufficient time to be received by the close of business on the closing date and should be sent to Andrea.B.IannielloOFR@treasury.gov or by mail to: Office of Financial Research, Department of the Treasury, Attention: Andrea B. Ianniello, 1500 Pennsylvania Avenue NW., MT-1330, Washington, DC 20220.

Dated: April 10, 2014.
Barbara Shycoff,
Chief of External Affairs.

[FR Doc. 2014-08905 Filed 4-17-14; 8:45 am]

BILLING CODE 4810-25-P